OFFICE OF MANAGEMENT AND BUDGET

OMB Sequestration Update Report to the President and Congress for Fiscal Year 2014

AGENCY: Executive Office of the President, Office of Management and Budget.

ACTION: Notice of availability of the OMB Sequestration Update Report to the President and Congress for FY 2014.

SUMMARY: OMB is issuing the Sequestration Update Report to the President and Congress for FY 2014 to report on the status of pending discretionary appropriations legislation and compliance with the discretionary caps. The report finds that unless the discretionary limits are restored to the levels agreed to in the American Taxpayer Relief Act of 2012, OMB's estimates of House action for the 12 annual appropriations bills show that a sequestration of approximately $47.9 billion in discretionary programs in the defense (or revised security) category would be required. Similarly, OMB's estimates of appropriations action by the Senate indicate that a sequestration of approximately $54.1 billion in discretionary programs in the defense category and $34.3 billion in discretionary programs in the non-defense (or revised nonsecurity) category would be required. The report also contains OMB's Preview Estimate of the Disaster Relief Funding Adjustment for FY 2014.

DATES: Effective Date: August 20, 2013. Section 254 of the Balanced Budget and Emergency Deficit Control Act of 1985, as amended, requires the Office of Management and Budget (OMB) to issue a Sequestration Update Report on August 20th of each year. With regard to this update report and to each of the three required sequestration reports, section 254(b) specifically states the following:

Submission and Availability of Reports—Each report required by this section shall be submitted, in the case of CBO, to the House of Representatives, the Senate and OMB and, in the case of OMB, to the House of Representatives, the Senate, and the President on the day it is issued. On the following day a notice of the report shall be printed in the Federal Register.

ADDRESSES: The OMB Sequestration Reports to the President and Congress is available on-line on the OMB home page at: http://www.whitehouse.gov/omb/legislative_reports/sequestration.

FOR FURTHER INFORMATION CONTACT: Thomas Tobasko, 6202 New Executive Office Building, Washington, DC 20503, Email address: ttobasko@omb.eop.gov, telephone number: (202) 395-5745, FAX number: (202) 395-4768 or Jenny Winkler Murray, 6236 New Executive Office Building, Washington, DC 20503, Email address: jwinkler@omb.eop.gov, telephone number: (202) 395-7763, FAX number: (202) 395-4768. Because of delays in the receipt of regular mail related to security screening, respondents are encouraged to use electronic communications.

Sylvia M. Burwell,
Director.

[FR Doc. 2013-20928 Filed 8-29-13; 8:45 am]

BILLING CODE P